DEPARTMENT OF AGRICULTURE

Forest Service

Klamath National Forest, California; Craggy Vegetation Management Project

AGENCY: Forest Service, USDA.

ACTION: Notice of intent to prepare an environmental impact statement.

SUMMARY: The Klamath National Forest is preparing an environmental impact statement (EIS) to improve fire resiliency on National Forest System lands by reducing fuels and stand density. The project area includes about 6,270 acres of private land and 29,500 acres of National Forest System lands. Project treatments will be limited to National Forest System lands. The project is about 10 miles north of Fort Jones and one mile west of Yreka, in Siskiyou County, California.

DATES: Comments concerning the scope of the analysis must be received by February 3, 2016. The draft environmental impact statement is expected to be completed by April 2016, and the final environmental impact statement is expected to be completed by July 2016.

ADDRESSES: You may submit comments by any of the following methods:

• Agency Web site: http://www.fs.usda.gov/project/?project=31770. Select the “Comment on Project” link in the “Get Connected” group at the right hand side of the project Web page. Attachments may be in the following formats: Plain text (.txt), rich text format (.rtf), Word (.doc, .docx), or portable document format (.pdf).

• Email: comments-pacificsouthwest-klamath-scott-river@fs.fed.us.

• Fax: 530-468-1290.

• Mail/Hand Delivery/Courier: Patricia Grantham, ATTN: Andrew Mueller, 11263 N. Highway 3, Fort Jones, CA 96032-9702.

All comments received will be posted without change to http://www.fs.usda.gov/project/?project=31770, including any personal information provided.

FOR FURTHER INFORMATION CONTACT: Andrew Mueller, Interdisciplinary Team Lead by email at aamueller@fs.fed.us or by phone at 530-468-1223. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project is to:

1. Reduce the threat of wildfire to communities in the wildland urban interface while moving toward a diverse fire-resilient ecosystem.

2. Reduce overstocked, drought-stressed and dying trees to promote forest health.

3. Enhance early seral foraging and winter range habitat for deer and wild turkeys; and improve long-term habitat for northern spotted owl.

4. Maintain or improve habitat for Calochortus persistens, a Forest Service sensitive plant.

5. Limit the discharge of sediment to streams from sediment legacy sites to improve water quality.

Proposed Action

The proposed action was designed to meet the purpose and need for the project. A total of 10,700 acres is being proposed for treatment within the 29,500-acre project area. Strategic actions within project boundary will treat about 250 acres of the 1,190-acre defense zone and 3,870 acres within the 12,350-acre threat zone around the community of Yreka, California. Proposed treatments also include about 1,450 acres of fuel breaks along strategic road systems and ridges; 4,160 acres of prescribed burning; 860 acres of mastication to enhance wildlife habitat while reducing hazardous fuels; 1,350 acres of thinning (without the removal of Forest products); and 2,880 acres of thinning (with removal of Forest products).

Responsible Official

Forest Supervisor, Klamath National Forest, 1711 South Main Street, Yreka, CA 96097.

Nature of Decision To Be Made

The responsible official will decide whether to adopt and implement the proposed action, an alternative to the proposed action, or take no action.

Scoping Process

This notice of intent initiates the scoping process, which guides the development of the environmental impact statement. During the comment period, an open house will be held in conjunction with the Yreka Area Fire Safe Council at the Forest Headquarters, 1711 South Main Street in Yreka on Wednesday, January 13, 2016, from 5 to 7 p.m. This is an opportunity to share location-specific information about the project with the public.

It is important that reviewers provide their comments at such times and in such manner that they are useful to the agency's preparation of the environmental impact statement. We are particularly interested in hearing about any potential issues, which are defined as points of discussion, dispute, or debate about the effects of the proposed action. Your participation will help the interdisciplinary team develop effective, issue-driven alternatives and mitigations to the proposed action as needed.

This project is subject to comment pursuant to 36 CFR 218, subpart B. Only those who submit timely project-specific written comments during a public comment period are eligible to file an objection. Individuals or representatives of an entity submitting comments must sign the comments or verify identity upon request. Comments received, including the names and addresses of those who comment, will be considered part of the public record on this proposal and will be available for public inspection (40 CFR 1501.7 and 1508.22; Forest Service Handbook 1909.15, Section 21). However, comments submitted anonomously will be accepted and considered.

Dated: December 15, 2015.
Patricia A. Grantham,
Forest Supervisor.

[FR Doc. 2015-32522 Filed 12-31-15; 8:45 am]

BILLING CODE 3411-15-P